DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Phase I of the National Evaluation of the Comprehensive Community Mental Health Services for Children and Their Families Program (0930-0171—Extension, revision). The core and comparison studies of the evaluation collect information on child and family demographics, child mental health status, and service system development. In the core study, data were collected from children and families at intake into services, 6 months later, and every 12 months thereafter while the children remain in services. In the comparison study component, information is collected at intake, 6 months, 12 months, 24 months, and annually thereafter. In both studies, data were collected annually from grantees' administrators and providers.

SAMHSA's Center for Mental Health Services (CMHS) is seeking OMB approval for a 4-month extension of approval for the comparison study of this evaluation of integrated child mental health service systems funded by CMHS to allow sufficient follow-up data to be collected. The comparison study of the evaluation collects information on child and family demographics, and child mental health status and social functioning. The table below summarizes burden for this extension.

Respondent | Average number of respondents | Average number of responses | Average hours per response | Total burden
Currently approved |  |  |  | 1493
Caregivers | 701 | .43 | .56 | 169
Youth | 420 | .30 | 1.16 | 146
Administrators/providers | 0 | 0 | 0 | 0
Total | 1121 |  |  | 315

Send comments to Nancy Pearce, SAMHSA Reports Clearance Officer, Room 16-105, Parklawn Building, 5600 Fishers Lane, Rockville, MD 20857. Written comments should be received within 60 days of this notice.

Dated: April 5, 2000.
Richard Kopanda,
Executive Officer, SAMHSA.

[FR Doc. 00-9108 Filed 4-11-00; 8:45 am]

BILLING CODE 4162-20-P